DEPARTMENT OF ENERGY

Notice of 229 Boundary Revision at the Paducah Gaseous Diffusion Plant

AGENCY: Office of Environmental Management, Portsmouth/Paducah Project Office, U.S. Department of Energy (DOE).

ACTION: Notice of revision of boundary locations at the Paducah Gaseous Diffusion Plant, Paducah, Kentucky.

SUMMARY: Notice is hereby given that the U.S. Department of Energy, pursuant to the Atomic Energy Act of 1954, as amended, prohibits the unauthorized entry and the unauthorized introduction of weapons or dangerous materials into or upon the facilities of the Paducah Gaseous Diffusion Plant, located in McCracken County, Kentucky, of the United States Department of Energy. The facilities are described in this notice.

DATES: This action is effective on November 2, 2018.

FOR FURTHER INFORMATION CONTACT:

Robert E. Edwards, III, Portsmouth/Paducah Project Office Manager, 1017 Majestic Drive, Suite 200, Lexington, KY 40513, Telephone: (859) 219-4000, Facsimile: (859) 219-4099.

George Hellstrom, Portsmouth/Paducah Project Office Lead Counsel, 2017 Majestic Drive, Suite 200, Lexington, KY 40513, Telephone: (859) 219-4000, Facsimile: (859) 219-4009.

SUPPLEMENTARY INFORMATION: Public notice of the section 229 boundary of the Paducah Gaseous Diffusion Plant was initially made in the Federal Register notice published October 19, 1965 (30 FR 13287). The boundary was revised on May 7, 1980 (45 FR 30106). The boundary was revised in its entirety on January 23, 2012 (77 FR 3255).

Pursuant to section 229 of the Atomic Energy Act, as implemented by DOE regulations at 10 CFR part 860 (28 FR 8400, Aug. 26, 1963), the amendment by substitution of the following description language for the entirety of the former descriptions are made. DOE regulations prohibit the unauthorized entry (10 CFR 860.3) and the unauthorized introduction of weapons or dangerous materials (10 CFR 860.4) into or upon the facilities.

1. The DOE installation known as the Paducah Gaseous Diffusion Plant located in McCracken County, KY, approximately 6,000 feet North of Woodville Road (State Route 725) and approximately 6,300 feet West of Metropolis Lake Road. The primary security interest area, including a buffer area, totals approximately 1,223 acres with boundary coordinates as follows:

Longitude | Latitude
1. 88 49′23.00″ W | 37 05′39.09″ N
2. 88 49′16.19″ W | 37 05′54.36″ N
3. 88 49′06.21″ W | 37 06′15.89″ N
4. 88 49′08.81″ W | 37 06′16.70″ N
5. 88 49′08.65″ W | 37 06′17.04″ N
6. 88 49′05.87″ W | 37 06′16.77″ N
7. 88 49′04.15″ W | 37 06′20.34″ N
8. 88 49′04.71″ W | 37 06′20.94″ N
9. 88 49′04.06″ W | 37 06′21.36″ N
10. 88 49′06.53″ W | 37 06′25.26″ N
11. 88 49′04.41″ W | 37 06′26.14″ N
12. 88 49′04.31″ W | 37 06′26.57″ N
13. 88 49′02.98″ W | 37 06′28.80″ N
14. 88 49′07.16″ W | 37 06′31.57″ N
15. 88 49′09.40″ W | 37 06′33.23″ N
16. 88 49′12.68″ W | 37 06′37.41″ N
17. 88 49′18.81″ W | 37 06′35.97″ N
18. 88 49′21.65″ W | 37 06′38.22″ N
19. 88 49′22.07″ W | 37 06′39.28″ N
20. 88 49′23.80″ W | 37 06′41.71″ N
21. 88 49′24.00″ W | 37 06′42.71″ N
22. 88 49′25.69″ W | 37 06′42.58″ N
23. 88 49′26.88″ W | 37 06′40.73″ N
24. 88 49′33.85″ W | 37 06′39.83″ N
25. 88 49′34.95″ W | 37 06′42.84″ N
26. 88 49′34.49″ W | 37 06′47.83″ N
27. 88 49′38.46″ W | 37 06′47.51″ N
28. 88 49′38.42″ W | 37 06′47.29″ N
29. 88 49′41.19″ W | 37 06′47.08″ N
30. 88 49′41.27″ W | 37 06′47.87″ N
31. 88 49′41.20″ W | 37 06′59.58″ N
32. 88 49′40.99″ W | 37 07′00.22″ N
33. 88 49′40.32″ W | 37 07′00.59″ N
34. 88 49′39.13″ W | 37 07′00.62″ N
35. 88 49′38.24″ W | 37 07′02.65″ N
36. 88 49′37.15″ W | 37 07′04.49″ N
37. 88 49′36.13″ W | 37 07′04.53″ N
38. 88 49′36.05″ W | 37 07′05.24″ N
39. 88 49′31.45″ W | 37 07′15.32″ N
40. 88 49′28.22″ W | 37 07′14.28″ N
41. 88 49′24.37″ W | 37 07′18.14″ N
42. 88 49′18.00″ W | 37 07′23.87″ N
43. 88 49′12.03″ W | 37 07′29.10″ N
44. 88 49′10.93″ W | 37 07′28.80″ N
45. 88 49′10.83″ W | 37 07′29.01″ N
46. 88 49′07.20″ W | 37 07′27.90″ N
47. 88 49′05.43″ W | 37 07′29.64″ N
48. 88 49′04.49″ W | 37 07′29.37″ N
49. 88 49′03.97″ W | 37 07′27.53″ N
50. 88 49′04.03″ W | 37 07′27.31″ N
51. 88 47′55.88″ W | 37 07′07.10″ N
52. 88 48′04.24″ W | 37 06′48.69″ N
53. 88 47′56.92″ W | 37 06′46.40″ N
54. 88 47′59.23″ W | 37 06′41.61″ N
55. 88 47′58.75″ W | 37 06′40.24″ N
56. 88 48′00.32″ W | 37 06′37.13″ N
57. 88 48′01.80″ W | 37 06′35.13″ N
58. 88 48′08.63″ W | 37 06′19.96″ N
59. 88 48′13.94″ W | 37 06′09.21″ N
60. 88 48′15.14″ W | 37 06′07.07″ N
61. 88 48′18.10″ W | 37 06′03.60″ N
62. 88 48′19.51″ W | 37 06′02.37″ N
63. 88 48′22.67″ W | 37 06′00.21″ N
64. 88 48′25.72″ W | 37 05′58.77″ N
65. 88 48′27.44″ W | 37 05′58.17″ N
66. 88 48′31.44″ W | 37 05′57.06″ N
67. 88 48′33.22″ W | 37 05′56.61″ N
68. 88 48′40.03″ W | 37 05′55.16″ N
69. 88 48′49.99″ W | 37 05′54.67″ N
70. 88 49′12.69″ W | 37 05′53.89″ N
71. 88 49′13.11″ W | 37 05′49.69″ N
72. 88 49′14.58″ W | 37 05′49.69″ N
73. 88 49′19.82″ W | 37 05′38.16″ N

2. The DOE landfill installation located North of Item 1 above and consisting of approximately 106 acres with boundary coordinates as follows:

Longitude | Latitude
1. 88 48′08.48″ W | 37 07′31.38″ N
2. 88 47′56.04″ W | 37 07′59.86″ N
3. 88 47′36.01″ W | 37 07′54.07″ N
4. 88 47′42.98″ W | 37 07′41.01″ N
5. 88 47′45.64″ W | 37 07′41.75″ N
6. 88 47′51.21″ W | 37 07′29.78″ N
7. 88 47′54.79″ W | 37 07′27.17″ N

This revised boundary replaces the property description contained in the Federal Register notice published January 23, 2012 (77 FR 3255).

Issued in Lexington, KY, this 11th day of October 2018.
Robert E. Edwards, III,
Manager, Portsmouth/Paducah Project Office.

[FR Doc. 2018-24029 Filed 11-1-18; 8:45 am]

BILLING CODE 6450-01-P